DEPARTMENT OF COMMERCE

[Docket No. 000105006-0006-01]

Privacy Act of 1974; System of Records

AGENCY: Bureau of the Census, Department of Commerce.

ACTION: Notice of new Privacy Act System of Records; Commerce/Census System 8.

SUMMARY: This notice announces the Department's proposal for a new system of records under the Privacy Act. The system is entitled, “COMMERCE/CENSUS-8, Statistical Administrative Records System.” This notice is submitted in accordance with the requirements of the Privacy Act of 1974 and Office of Management and Budget (OMB) Circular A-130, Appendix I, “Federal Agency Responsibilities for Maintaining Records About Individuals.”

DATES: Effective Date: The proposed system shall be effective without further notice on or before February 22, 2000, unless comments dictate otherwise.

Comment Date: To be considered, written comments on the proposed new system must be submitted on or before February 22, 2000.

ADDRESSES: Please address comments to: Gerald W. Gates, Privacy Act Officer, Policy Office, Room 2430 FB 3, Bureau of the Census, Washington, DC 20233-3700. Comments received will be available for public inspection at this same address from 8:30 am to 4 pm, Monday through Friday.

For further information contact: Wendy Alvey, Administrative Records Program Officer, Policy Office, Room 2430 FB 3, Bureau of the Census, Washington, DC 20233-3700, telephone: (301) 457-2485.

SUPPLEMENTARY INFORMATION: The establishment of this system of records will be effective February 22, 2000, unless the Commerce Department receives comments that would result in a contrary determination. As required by 5 U.S.C. 552a(o) of the Privacy Act, the Commerce Department submitted reports on this new system to both Houses of Congress. This notice meets the requirements of the Privacy Act of 1974 regarding the publication of an agency's notice of system of records. It documents the establishment of a new Census Bureau system of records, national in scope, which is composed of selected administrative records from other Federal government agencies and selected data from Census Bureau decennial censuses and surveys.

This notice is to announce the establishment of a statistical administrative records system and to request public comment. The administrative records system will contain personally identifiable information from six national administrative record programs; only a very small number of sworn Census Bureau employees will have access to this system. The administrative record files will be used separately to develop aggregated data for evaluation and statistical improvements. In addition, some of the data will be combined, by individual, with selected Census Bureau decennial census and survey data, to yield unduplicated person records for census and survey planning and evaluation research.

All administrative record data with personally identifying information (name, address, and social security number) will be maintained within a secured, restricted environment, with access limited to a very small number of sworn Census Bureau staff. No public disclosure of these data will be made. An in-house Project Review Board will oversee all Census Bureau statistical uses of these data, to ensure that the data are used only for authorized purposes. All uses of the data will be for statistical purposes only, which, by definition, means that the uses will not directly affect any individual. No information will be released that would allow any individual to be identified.

Commerce/Census—8

System name:

Statistical Administrative Records System—Commerce/Census—8.

System location:

Bowie Computer Center, Bureau of the Census, 17101 Melford Blvd., Bowie, Maryland 20715.

Categories of individuals covered by the system:

The population of the United States. In order to approximate coverage of the entire U.S. population, the Census Bureau will combine and delete redundant administrative record files from the Internal Revenue Service, Social Security Administration, Health Care Financing Administration, Selective Service System, Department of Housing and Urban Development, and the Indian Health Service. Comparable data may also be sought from selected state agencies, if available.

Categories of records in the system:

Personal identifiers —including but not limited to name and social security number—needed for matching purposes only; once matched, personal identifiers will be eliminated and replaced by Census Bureau-generated unique identifiers, which will be provided on output statistical data files; Demographic information—including but not limited to sex, race, ethnicity, education, marital status, tribal affiliation, veteran's status; Geographic information—including but not limited to address; Economic information—including but not limited to income, job information, total assets; and Processing information—including but not limited to processing codes and quality indicators.

Authorities for maintenance of the system:

Title 13, U.S.C. 6.

Purpose(s):

The purpose of the statistical administrative records system of records is to evaluate the 2000 decennial census; plan for the 2010 decennial census; evaluate and enhance selected survey data; and produce estimates of social and economic characteristics of the population. By using administrative records data from other agencies, the Census Bureau will be able to improve the quality and usefulness of its data, while reducing costs and respondent burden.

Routine uses of records maintained in the system, including categories of users and the purposes of such uses:

None.

Policies and practices for storing, retrieving, accessing, retaining, and disposing of records in the system:

Storage:

Records will be stored in a secure computerized system and on magnetic tape; output data will be either electronic or paper copy. All identifiable data will be maintained in a secure environment and access to identifiable information will be restricted to only a small number of people with a need to know.

Retrievability:

Records can be retrieved by name, address, or Social Security Number by only a limited number of sworn Census Bureau personnel within a secure, restricted access environment. It should be noted that the purpose of these identifiers is not to retrieve information for specific individuals, but only to develop matched data sets for subsequent statistical extracts. Names and Social Security Numbers will be deleted from all output files and replaced by unique serial identification numbers internal to the Bureau of the Census.

Safeguards:

Only a limited number of sworn Census Bureau employees will have access to these data in identifiable form, in order to construct the linked data sets and produce statistical extracts; the data will not be used to identify specific individuals, but will be used to create extracts with information from one or more of the source files. Extract files will only be released to designated sworn Census Bureau staff with a need-to-know; all data going outside the restricted access environment will be stripped of personally identifying information; the crosswalk for the recoded identifiers will be maintained within the secure, restricted access environment and may only be accessed only by authorized personnel. The microdata will not be made publicly available. Any publications resulting from these data will be cleared for release under the direction of the Census Bureau's Disclosure Review Board, which will confirm that the data do not directly or indirectly disclose information which would identify any individual. All employees are subject to the restrictions, penalties, and prohibitions of Title 13 U.S.C. 9 and 214; Privacy Act of 1974 (5 U.S.C. 552a(b)(4)); Title 18 U.S.C. 1905; Title 26 U.S.C. 7213; and Title 42, U.S.C., Section 1306. When confidentiality or penalty provisions differ, the most stringent provisions apply to protect the data. Employees are regularly advised of the regulations issued pursuant to Titles 13 U.S.C. and other relevant statutes governing confidentiality of the data. The restricted access environment has been established to limit the number of Census Bureau employees with direct access to identifiable microdata from this system, so as to protect the confidentiality of the data and to prevent unauthorized use or access to it. These safeguards provide a level and scope of security that is not less than the level and scope of security established by the Office of Management and Budget in OMB Circular No. A-130, Appendix III, Security of Federal Automated Information Systems. Furthermore, the use of unsecured telecommunications to transmit individually identifiable or deducible information derived from the administrative record files is prohibited.

Retention and disposal:

Records to be retained in accordance with the unit's Records Control Schedule, which is based on separate agreements with each source agency. Retention is not to exceed 10 years, unless, by agreement with the source agency, it is determined that a longer period is necessary for statistical purposes. At the end of the retention period or upon demand, all original files, extracts and paper copies from each agency will be returned to the source agency or destroyed, as stated in the interagency agreement.

System manager and address:

Associate Director for Methodology and Standards, Bureau of the Census, FB 3, Washington, DC 20233.

Notification procedure:

For Census records, information may be obtained from: Assistant Division Chief for Administrative Records Research, Planning, Research, and Evaluation Division, Methodology and Standards Directorate, Bureau of the Census, Suitland Federal Center Building 2, Washington, D.C. 20233.

Record source categories:

Individuals covered by selected Federal administrative record systems and Census Bureau censuses and surveys.

Exemptions claimed for this system:

Pursuant to Title 5 U.S.C., Section 552a(k)(4), this system of records is exempted from the notification, access, and contest requirements of the agency procedures (under Title 5 U.S.C., Section 552a(c)(3), (d), (e)(1), (e)(4)(G), (H), and (I), and (f)). This exemption is applicable as the data are maintained by the Bureau of the Census solely as statistical records, as required under Title 13 U.S.C., and are not used in whole or in part in making any determination about an identifiable individual. This exemption is made in accordance with agency rules published in the rules section of this Federal Register.

Dated: January 7, 2000.
Brenda Dolan,
Department of Commerce,
Freedom of Information/Privacy Act Officer.

[FR Doc. 00-1352 Filed 1-19-00; 8:45 am]

BILLIING CODE 3510-07-P